DEPARTMENT OF JUSTICE

Antitrust Division

Notice Pursuant to the National Cooperative Research and Production Act of 1993—Training & Readiness Accelerator II

Notice is hereby given that, on January 15, 2024, pursuant to section 6(a) of the National Cooperative Research and Production Act of 1993, 15 U.S.C. 4301 et seq. (“the Act”), Training & Readiness Accelerator II (“TReX II”) has filed written notifications simultaneously with the Attorney General and the Federal Trade Commission disclosing changes in its membership. The notifications were filed for the purpose of extending the Act's provisions limiting the recovery of antitrust plaintiffs to actual damages under specified circumstances. Specifically, Highlight Technologies, Inc., Fairfax, VA; Viasat, Inc., Tempe, AZ; Inspired Engineering Solutions LLC, Niceville, FL; E.O. Solutions LLC, Kula, HI; Vega Technology Group LLC, North Canton, OH; DESE Research, Inc., Huntsville, AL; Waltonen Engineering, Inc., Warren, MI; Origami Software Solutions, Inc., Norfolk, VA; Radius Method, Boca Raton, FL; Scientific Applications & Research Associates, Inc., Cypress, CA; Raven Defense Corp., Albuquerque, NM; Technology and Communications Systems, Inc., Safety Harbor, FL; Expedition Technology, Inc., Herndon, VA; DTCUBED LLC, Sewell, NJ; Skaion Corp., North Chelmsford, MA; Laser Shot, Inc., Stafford, VA; Laulima Systems LLC, Charlottesville, VA; II-VI Aerospace & Defense, Murrieta, CA; Torrey Pines Logic, Inc., San Diego, CA; Theissen Training Systems, Inc., Gainesville, FL; Aunautic Technologies, National City, CA; Advanced Fiber Systems, Inc., Ann Arbor, MI; Corps Solutions LLC, Stafford, VA; The Boeing Company, St. Louis, MO; Aderas, Inc., Reston, VA; Immobileyes, Inc., Kent, OH; MSI Defense Solutions, LLC, Mooresville, NC; Riverside Research, Arlington, VA; L3 Technologies, Simi Valley, CA; F3EA, Inc., Savannah, GA; Engeniusmicro, Huntsville, AL; VK Integrated Systems, Clarksville, TN; Defense Industry Advisors LLC, Dayton, OH; Technovative Applications, Brea, CA; National Technical Systems, Belcamp, MD; Virginia Tech Applied Research Corporation, Arlington, VA; Planned Systems International, Inc., Columbia, MD; SciTec, Inc., Princeton, NJ; Applied Training Solutions LLC, Greensburg, PA; Hermeus Corporation, Atlanta, GA; BlackOhm LLC, Tempe, AZ; Tybram LLC Jacksonville, FL; Spectral Sciences, Inc., Burlington, MA; Orolia Government Systems, Inc., Rochester, NY; nLIGHT DEFENSE Systems, Inc., Longmont, CO; Mass Virtual, Inc., Orlando, FL; Applied Physical Electronics LLC, Spicewood, TX; Setter Research, Inc., Greensboro, NC; and Blackrock Strategy, LLC, Huntsville, AL, have been added as parties to this venture.

Also, NAL Research Corp., Manassas, VA; Action Engineering, Golden, CO; BrainSim Technologies, Inc., Pennsylvania Furnace, PA; FactualVR, Inc., Jersey City, NJ; Design Interactive, Inc. Orlando, FL; Rise8, Inc., Tampa, FL; Vega Technology Group LLC, North Canton, OH; SparkCognition Government Services, Austin, TX; Metateq, Eugene, OR; Netrist Solutions LLC, Charleston, SC; Next Earth LLC, Ashburn, VA; CMA Technologies, Inc., Orlando, FL; W R Systems, Ltd., Fairfax, VA; and NTELX, Inc., Asheville, NC, have withdrawn as parties to this venture.

No other changes have been made in either the membership or planned activity of the group research project. Membership in this group research project remains open, and TReX II intends to file additional written notifications disclosing all changes in membership.

On February 17, 2023, TReX II filed its original notification pursuant to section 6(a) of the Act. The Department of Justice published a notice in the Federal Register pursuant to section 6(b) of the Act on June 13, 2023 (88 FR 38536).

The last notification was filed with the Department on October 20, 2023. A notice was published in the Federal Register pursuant to section 6(b) of the Act on December 15, 2023 (88 FR 86938).

Suzanne Morris,
Deputy Director Civil Enforcement Operations, Antitrust Division.

[FR Doc. 2024-07940 Filed 4-15-24; 8:45 am]

BILLING CODE P